DEPARTMENT OF HEALTH AND HUMAN SERVICES

Centers for Disease Control and Prevention

Disease, Disability, and Injury Prevention and Control Special Emphasis Panel (SEP): Research 2 Practice and Construction Research Application, Request for Application (RFA) OH09-001, Initial Review

In accordance with section 10(a)(2) of the Federal Advisory Committee Act (Pub. L. 92-463), the Centers for Disease Control and Prevention (CDC), announces the aforementioned meeting:

Time and Date: 3 a.m.-5 p.m., July 7, 2010 (Closed).

Place: National Institute for Occupational Safety and Health (NIOSH), 2400 Century Parkway, NE., Fourth Floor, Atlanta, Georgia 30345, Telephone: (404) 498-2530.

Status: The meeting will be closed to the public in accordance with provisions set forth in Section 552b(c)(4) and (6), Title 5, U.S.C., and the Determination of the Director, Management Analysis and Services Office, CDC, pursuant to Section 10(d) of Public Law 92-463.

Matters To Be Discussed: The meeting will include the initial review, discussion, and evaluation of applications received in response to “Research 2 Practice and Construction Research Application, RFA OH09-001”.

Agenda items are subject to change as priorities dictate.

Contact Person for More Information: Chris Langub, PhD, Scientific Review Officer, NIOSH, CDC, 2400 Century Center, Atlanta, GA 30333, Telephone: (404) 498-2543.

The Director, Management Analysis and Services Office has been delegated the authority to sign Federal Register notices pertaining to announcements of meetings and other committee management activities for both CDC and the Agency for Toxic Substances and Disease Registry.

Dated: June 4, 2010.
Elaine L. Baker,
Director, Management Analysis and Services Office, Centers for Disease Control and Prevention.

[FR Doc. 2010-14074 Filed 6-10-10; 8:45 am]

BILLING CODE 4163-18-P